ENVIRONMENTAL PROTECTION AGENCY

40 CFR Part 141

[EPA-HQ-OW-2022-0114; FRL-8543-O3-OW]

Notice of Public Meeting: Environmental Justice Considerations for the Development of the Proposed Per- and Polyfluoroalkyl Substances (PFAS) National Primary Drinking Water Regulation (NPDWR)

AGENCY: Environmental Protection Agency (EPA).

ACTION: Notice of public meeting.

SUMMARY: The Environmental Protection Agency (EPA) is hosting two identical public meetings to discuss and solicit input on environmental justice considerations related to the development of the proposed per- and polyfluoroalkyl substances (PFAS) national primary drinking water regulation (NPDWR) under the Safe Drinking Water Act (SDWA). In the context of developing this proposed regulation, environmental justice considerations include the fair treatment and meaningful involvement of all people regardless of race, color, national origin, or income with respect to the development, implementation, and enforcement of environmental laws, regulations, and policies with a particular focus on unique challenges faced by communities disproportionately burdened by environmental harms and risks. EPA is holding these meetings to share information and provide an opportunity for communities to offer input on the development of the proposed PFAS NPDWR. Information on how to register and request to speak during one of the meetings is detailed in the SUPPLEMENTARY INFORMATION section of this announcement.

DATES: Comments must be received on or before April 20, 2022. The two identical public meetings will be held on March 2, 2022 (1 p.m. to 4 p.m., eastern time) and April 5, 2022 (5 p.m. to 8 p.m., eastern time). The public meetings will be held in an online-only format.

ADDRESSES: You may send comments, identified by Docket ID No. EPA-HQ-OW-2022-0114, to the Federal eRulemaking Portal: https://www.regulations.gov/. Follow the online instructions for submitting comments.

Instructions: All submissions received must include the Docket ID No. EPA-HQ-OW-2022-0114 for this action. Comments received may be posted without change to https://www.regulations.gov/, including any personal information provided. For detailed instructions on sending comments and additional information on the rulemaking process, see the “Public Participation” heading of the SUPPLEMENTARY INFORMATION section of this announcement.

FOR FURTHER INFORMATION CONTACT: For technical inquiries, contact Ashley Greene, Standards and Risk Management Division, Office of Ground Water and Drinking Water (MC 4607M), Environmental Protection Agency, 1200 Pennsylvania Ave. NW, Washington, DC 20460 at (202) 566-1738 or greene.ashley@epa.gov. For more information about the proposed PFAS NPDWR, visit: https://www.epa.gov/sdwa/and-polyfluoroalkyl-substances-pfas.

SUPPLEMENTARY INFORMATION:

I. Public Participation

These online meetings will be open to the public and EPA encourages input and will provide opportunities for public engagement.

A. Written Comments

Submit your comments, identified by Docket ID No, EPA-HQ-OW-2022-0114 at https://www.regulations.gov; see instructions identified in the ADDRESSES section of this announcement. Once submitted, comments cannot be edited or removed from the docket. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

B. Participation in Public Meeting

Registration: Individuals planning to participate in either of the online public meetings must register at https://www.epa.gov/sdwa/and-polyfluoroalkyl-substances-pfas no later than March 1, 2022, for the March 2, 2022 meeting and April 4, 2022, for the April 5, 2022 meeting. Individuals are also invited to speak during the meetings. Those interested in speaking can sign-up to make brief verbal remarks as a part of their registration. EPA will do its best to include all those interested in attending and requesting verbal input, but may have to limit attendance due to web conferencing size or limit verbal remarks due to meeting time limitations; therefore, EPA urges people to register early. Meeting information and web conferencing meeting details, including telephone call-in information, will be emailed to registered participants in advance of each of the meetings. If you have any difficulty registering or have additional questions or comments about the public meeting, please email PFASmeetingsupport@cadmusgroup.com.

Special Accommodations: For information on electronic access or accommodations for individuals with disabilities or other requested assistance (e.g., language translation), please contact Ashley Greene at (202) 566-1738 or by email at greene.ashley@epa.gov. Please allow at least five business days prior to each of the meetings to give EPA time to process your request.

II. The Proposed PFAS National Primary Drinking Water Regulation

Under SDWA, EPA sets public health goals and enforceable standards for drinking water quality. On March 3, 2021, EPA published a final determination (https://www.epa.gov/ccl/regulatory-determination-4) to regulate perfluorooctanoic acid (PFOA) and perfluorooctanesulfonic acid (PFOS) in drinking water. EPA is currently developing a proposed NPDWR for PFOA and PFOS. EPA is also evaluating additional PFAS and assessing the available science to consider regulations for groups of PFAS. NPDWRs are legally enforceable maximum contaminant levels (MCLs) or treatment techniques that apply to public water systems. MCLs and treatment techniques protect public health by limiting the levels of contaminants in drinking water.

In October 2021, EPA released the PFAS Strategic Roadmap (https://www.epa.gov/pfas/pfas-strategic-roadmap-epas-commitments-action-2021-2024) laying out an overall approach to addressing PFAS. Establishing an NPDWR for PFOA and PFOS is a key action in the Roadmap. EPA expects to issue a proposed regulation in fall 2022 (before the agency's statutory deadline of March 2023). EPA anticipates issuing a final regulation in fall 2023 after considering public comments on the proposal.

Jennifer L. McLain,
Director, Office of Ground Water and Drinking Water.

[FR Doc. 2022-02733 Filed 2-8-22; 8:45 am]

BILLING CODE 6560-50-P